DEPARTMENT OF THE INTERIOR

Bureau of Land Management

[NV-952-03-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10:00 a.m. on the dates indicated below.

FOR FURTHER INFORMATION CONTACT: Robert M. Scruggs, Chief, Branch of Geographic Sciences, Bureau of Land Management (BLM), Nevada State Office, 1340 Financial Blvd., PO Box 12000, Reno, Nevada 89520, 775-861-6541.

SUPPLEMENTARY INFORMATION: 1. The Plats of Survey of the following described lands were officially filed at the Nevada State Office, Reno, Nevada, on September 12, 2002:

The plat representing the dependent resurvey of a portion of the south boundary and a portion of the subdivisional lines, the subdivision of section 26 and further subdivision of section 27, and metes-and-bounds surveys of portions of the right-of-way lines of Interstate Highway No. 15 and the Union Pacific Railroad, Township 25 South, Range 59 East, Mount Diablo Meridian, Nevada, under Group No. 797, was accepted September 10, 2002.

The plat, in four (4) sheets, representing the dependent resurvey of the east boundary, a portion of the south boundary and a portion of the subdivisional lines, the subdivision of sections 33 and 34, and metes-and-bounds surveys of the right-of-way lines of Interstate Highway No. 15 and a portion of the westerly right-of-way line of the Union Pacific Railroad, Township 26 South, Range 59 East, Mount Diablo Meridian, Nevada, under Group No. 797, was accepted September 10, 2002.

These surveys were executed to meet certain administrative needs of the Bureau of Land Management and Clark County.

2. The Plat of Survey of the following described lands was officially filed at the Nevada State Office, Reno, Nevada, on September 26, 2002:

The plat representing the dependent resurvey of a portion of the north boundary and a portion of the subdivisional lines, and the subdivision of sections 6, 8 and 18, Township 26 North, Range 31 East, Mount Diablo Meridian, Nevada, under Group No. 783, was accepted September 24, 2002.

This survey was executed to meet certain administrative needs of the Bureau of Land Management.

3. The Plats of Survey of the following described lands were officially filed at the Nevada State Office, Reno, Nevada, on September 30, 2002:

The plat representing the dependent resurvey of a portion of the subdivisional lines, the subdivision of section 33, and a metes-and-bounds survey of portions of the centerline of U.S. Highway 95, in section 33, Township 7 South, Range 44 East, Mount Diablo Meridian, Nevada, under Group No. 800, was accepted September 27, 2002.

The plat representing the dependent resurvey of a portion of the subdivisional lines, the subdivision of section 3, and a metes-and-bounds survey of the centerline of U.S. Highway 95, in section 3, Township 8 South, Range 44 East, Mount Diablo Meridian, Nevada, under Group No. 800, was accepted September 27, 2002.

These surveys were executed to meet certain administrative needs of the Bureau of Land Management and the Bureau of Indian Affairs.

4. The above-listed surveys are now the basic record for describing the lands for all authorized purposes. These surveys have been placed in the open files in the BLM Nevada State Office and are available to the public as a matter of information. Copies of the surveys and related field notes may be furnished to the public upon payment of the appropriate fees.

Dated: October 11, 2002.
Robert V. Abbey,
State Director, Nevada.

[FR Doc. 02-26654 Filed 10-18-02; 8:45 am]

BILLING CODE 4310-HC-P